FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Champion International Moving, Ltd. (NVO & OFF) One Champion Way, Canonsburg, PA 15317. Officers: Ronald A. Smith, President (QI), Ronald G. Schmitt, Vice President. Application Type: Add OFF Service.

Easy Shipping Corporation (NVO & OFF), 10940 S. Keating Avenue, Unit 3B, Oak Lawn, IL 60453. Officer: Ahmed Sadek, President (QI). Application Type: New NVO & OFF License.

Miami Freight & Logistics Services, Inc. (NVO & OFF), 3630 NW 76th Street, Miami, FL 33143. Officers: Syed H. Hussaini, Vice President (QI), Mohamed Abouelmaati, President. Application Type: New NVO & OFF License.

Naca Logistics (USA), Inc. dba Brennan International Transport, dba Brennan, dba Conterm Consolidation Services, dba Conterm, dba Direct Container line, dba DCL, dba Ocean World Shipping, dba OWS, dba Ocean Express, dba Oceanexpress Vanguard Logistics Services, dba Vanguard (NVO), 857 East 230th Street, Carson, CA 90745. Officers: Ank de Roos, Director (QI), Hans Mikkelsen, President. Application Type: QI Change.

Nautical Shipping Line (PVT.) Limited dba Nautical Shipping Line (NVO), 3/G, Block-6 P.E.C.H.S., Karachi, Pakistan. Officers: Asif Ali, Vice President (QI), Ayaz Ali, President. Application Type: New NVO License.

S&R Marine Services B.V. Inc. (NVO), Rivierweg 1, 3161 GM Rhoon, Hoogvliet, Rotterdam, Netherlands. Officers: Peter F. Spiering, President (QI), Ronald de Roo, Director. Application Type: New NVO License.

Sprint Global Inc (NVO & OFF), 3731 NW Cary Parkway, Suite 102, Cary, NC 27513. Officers: Jagadeeswari Chandramouleeswaran, President (QI), Saraswathi Lakshmanan, Secretary. Application Type: Add OFF Service.

Hua Yang Transportation Co. (NVO), 1450 Glenn Curtiss Street, Carson, CA 90746. Officers: Merlinda V. Tan, COO (QI), Yanzhong Ding, President. Application Type: Name Change to Firstrans International Co.

Transportes Zuleta, Inc. (NVO), 844 W. Flagler Street, Miami, FL 33130. Officers: Carmen L. Rodriguez, Treasurer (QI), Jacqueline Morales, President. Application Type: QI Change.

Universal Containers, LLC (NVO & OFF), 15760 Ventura Blvd., Suite 840, Encino, CA 91436. Officers: Ajay R. Rathod, Manager (QI), Amir Maghami, President. Application Type: New NVO & OFF License.

By the Commission.
Dated: January 25, 2013.
Rachel E. Dickon,
Assistant Secretary.

[FR Doc. 2013-01992 Filed 1-29-13; 8:45 am]

BILLING CODE 6730-01-P